DEPARTMENT OF HOUSING AND URBAN DEVELOPMENT

[Docket No. FR-5477-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, DAIM-ZS, Room 8536, 2511 Jefferson Davis Hwy, Arlington, VA 22202: (571) 256-8145 (These are not toll-free numbers).

Dated: September 8, 2011.
Mark R. Johnston,
Deputy Assistant Secretary for Special Needs.

Title V, Federal Surplus Property Program Federal Register Report for 09/16/2011

Suitable/Available Properties

Building

Kansas

4 Bldgs.,

Ft. Riley,

Fort Riley, KS 66442,

Landholding Agency: Army,

Property Number: 21201130040,

Status: Unutilized.

Directions: 00471, 00470, 00745, 00615.

Comments: Off-site removal only; sq ft. vary among properties; recent use: lodging, storage.

Bldg. 00600,

600 Caisson Hill Rd,

Fort Riley, KS 66442,

Landholding Agency: Army,

Property Number: 21201130042,

Status: Unutilized.

Comments: Off site removal only; 380,376 sq. ft.; recent use: hospital.

Bldgs. 00541 and 08321,

Ft. Riley,

Fort Riley KS,

Landholding Agency: Army,

Property Number: 21201130044,

Status: Unutilized.

Comments: Off site removal only; sq. ft. vary among properties, recent use: lodging.

2 Bldgs.,

Ft. Riley,

Fort Riley KS 66442,

Landholding Agency: Army,

Property Number: 21201130059,

Status: Unutilized.

Directions: 00540, 00541.

Comments: Off-site removal only; sq. ft. vary among properties, recent use: lodging.

Bldg. 00745,

Fort Riley KS 66442,

Landholding Agency: Army,

Property Number: 21201130061,

Status: Unutilized.

Comments: Off-site removal only; 99 square feet; recent use: storage.

Bldg. 00542,

Ft. Riley,

Fort Riley KS 66442,

Landholding Agency: Army,

Property Number: 21201130063,

Status: Unutilized.

Comments: Off-site removal only; 14,528 sq. ft.; recent use: lodging.

2 Bldgs;

Ft. Riley,

Fort Riley KS 66442,

Landholding Agency: Army,

Property Number: 21201130065,

Status: Unutilized.

Directions: 00470, 08327.

Comments: Off-site removal only; sq. ft. vary among properties, recent use: lodging, and training center.

Unsuitable Properties

Building

California

Bldgs. 00186 & 00621,

Fort Hunter Liggett,

Fort Hunter Liggett CA 93928,

Landholding Agency: Army,

Property Number: 21201130067,

Status: Unutilized.

Reasons: Secured Area.

Colorado

Bldg. 06289,

7086 Albanese Loop,

Fort Carson CO 80913,

Landholding Agency: Army,

Property Number: 21201130019,

Status: Unutilized.

Reasons: Secured Area, Extensive deterioration.

Bldg. 06290,

7090 Albanese Loop,

Fort Carson CO 80913,

Landholding Agency: Army,

Property Number: 21201130020,

Status: Unutilized.

Reasons: Extensive deterioration, Secured Area.

6 Bldgs.,

1620-1658 Burris St.,

Fort Carson CO 80913,

Landholding Agency: Army,

Property Number: 21201130023

Status: Unutilized,

Directions: 00626, 00627, 00631, 00633, 00634, 00635.

Reasons: Secured Area.

Florida

Bldg. 00200,

Recreation Area Pool,

Destin FL,

Landholding Agency: Army,

Property Number: 21201130032,

Status: Excess.

Reasons: >Secured Area, Extensive deterioration.

Georgia

Bldg. 00TR8, Catoosa Area Training,

Tunnel Hill,

Tunnel Hill GA 30755,

Landholding Agency: Army,

Property Number: 21201130028,

Status: Excess.

Reasons: Extensive deterioration.

14 Bldgs.,

Ft. Benning,

Fort Benning GA 31905,

Landholding Agency: Army,

Property Number: 21201130033,

Status: Underutilized.

Directions: 02850, 02879, 02901, 02902, 02903, 02904, 02905, 02906, 02908, 02909, 02967, 02968, 06733, 08824.

Reasons: Secured Area, Extensive deterioration.

Hawaii

Bldg. 00022 and 00046,

Training Area,

Pohakulou HI 96720,

Landholding Agency: Army,

Property Number: 21201130015,

Status: Unutilized.

Reasons: Extensive deterioration, Secured Area.

2 Bldgs.,

Schofield Barracks,

Wahiawa HI 96786,

Landholding Agency: Army,

Property Number: 21201130054,

Status: Unutilized.

Directions: 01187, 01188.

Reasons: Extensive deterioration.

Illinois

Bldg. 649,

3155 Blackhawk Drive,

Fort Sheridan IL 60037,

Landholding Agency: Army,

Property Number: 21201130018,

Status: Unutilized.

Reasons: Secured Area, Extensive deterioration.

Bldg. 141,

Col. P. Schulstad,

Arlington Heights IL 60005,

Landholding Agency: Army,

Property Number: 21201130055,

Status: Unutilized.

Reasons: Secured Area, Contamination, Extensive deterioration.

Kansas

Bldg 00495,

McPherson,

Fort Leavenworth KS,

Landholding Agency: Army,

Property Number: 21201130029,

Status: Unutilized.

Reasons: Secured Area, Extensive deterioration.

Bldg. 09382,

Fort Riley,

Fort Riley KS 66442,

Landholding Agency: Army,

Property Number: 21201130035,

Status: Unutilized.

Reasons: Extensive deterioration.

4 Bldgs.,

Fort Riley,

Fort Riley KS,

Landholding Agency: Army,

Property Number: 21201130037,

Status: Unutilized.

Directions: 09081, 07123, 1865, 00747.

Reasons: Extensive deterioration.

6 Bldgs.,

Fort Riley,

Fort Riley KS,

Landholding Agency: Army,

Property Number: 21201130038,

Status: Unutilized.

Directions: 09079, 09078, 09455, 09382, 09087, 09381.

Reasons: Extensive deterioration.

Bldg. 07812,

Fort Riley,

Fort Riley KS 66442,

Landholding Agency: Army,

Property Number: 21201130039,

Status: Unutilized.

Reasons: Extensive deterioration.

6 Bldgs.,

Fort Riley,

Fort Riley KS 66442,

Landholding Agency: Army,

Property Number: 21201130041,

Status: Unutilized,

Directions: 09378, 09081, 09379, 09123, 07818, 00747.

Reasons: Extensive deterioration.

Bldgs. 09133 and 1865,

Fort Riley,

Fort Riley KS 66442,

Landholding Agency: Army,

Property Number: 21201130043,

Status: Unutilized.

Reasons: Extensive deterioration.

Bldg, 612,

Fort Riley,

Fort Riley KS 66442,

Landholding Agency: Army,

Property Number: 21201130045,

Status: Unutilized.

Reasons: Extensive deterioration.

5 Bldgs.,

Fort Riley,

Fort Riley KS 66442,

Landholding Agency: Army,

Property Number: 21201130060,

Status: Unutilized,

Directions: 09455, 07634, 00852, 00853.

Reasons: Extensive deterioration.

5 Bldgs.,

Fort Riley,

Fort Riley KS 66442,

Landholding Agency: Army,

Property Number: 21201130062,

Status: Unutilized.

Directions: 00701, 09079, 09380, 1990, 08323.

Reasons: Extensive deterioration.

2 Bldgs.,

Fort Riley,

Fort Riley KS 66442,

Landholding Agency: Army,

Property Number: 21201130064,

Status: Unutilized.

Directions: 09098, 00613.

Reasons: Extensive deterioration.

Missouri

14 Bldgs.,

Camp Clark,

Nevada MO 64772,

Landholding Agency: Army,

Property Number: 21201130046,

Status: Unutilized.

Directions: K0001, K0002, K0003, K0004, K0005, K0006, K0007, K0008, K0010, K0012, K0014, K0016, K0018, K0020.

Reasons: Extensive deterioration.

11 Bldgs.,

Camp Clark,

Nevada MO 64772,

Landholding Agency: Army,

Property Number: 21201130047,

Status: Unutilized.

Directions: J0006, J0007, J0008, J0009, J0010, J0011, J0012, J0013, J0015, J0017, J0019.

Reasons: Secured Area, Extensive deterioration.

12 Bldgs.,

Camp Clark,

Nevada MO 64772,

Landholding Agency: Army,

Property Number: 21201130048,

Status: Unutilized.

Directions: 435, 436, 438, 460, 466, 504, 506, J0001, J0002, J0003, J0004, J0005.

Reasons: Extensive deterioration, Secured Area.

13 Bldgs.,

Camp Clark,

Nevada MO 64772,

Landholding Agency: Army,

Property Number: 21201130049,

Status: Unutilized.

Directions: 00383, 00384, 00385, 00386, 00388, 00389, 00391, 00392, 00402, 00410, 00411, 00425, 00433.

Reasons: Extensive deterioration, Secured Area.

15 Bldgs.,

Camp Clark,

Nevada MO 64772,

Landholding Agency: Army,

Property Number: 21201130050,

Status: Unutilized.

Directions: 00127, 00329, 00337, 00344, 00352, 00356, 00360, 00362, 00363, 00365, 00366, 00367, 00372, 00376, 00380.

Reasons: Extensive deterioration, Secured Area.

New Jersey

14 Bldgs.,

Picatinny Arsenal,

Dover NJ 07806,

Landholding Agency: Army.

Property Number: 21201130017.

Status: Unutilized.

Directions: 1241A, 0031A, 0430A, 0445F, 0507A, 0507B, 00525, 1175, 1505J, 1505K, 03180, 3219A, 03345, 03354.

Reasons: Extensive deterioration, Secured Area.

Bldgs. 3007 & 22C,

Dover NJ 07806,

Landholding Agency: Army,

Property Number: 21201130036,

Status: Unutilized,

Reasons: Secured Area, Within 2000 ft. of flammable or explosive material.

New Mexico

7 Bldgs.,

White Sands Missile Range,

White Sands NM 88002,

Landholding Agency: Army,

Property Number: 21201130058,

Status: Unutilized.

Directions: 00357, 1752, 21236, 21560, 21562, 21925, 23000.

Reasons: Extensive deterioration, Secured Area.

New York

Bldg. 03828,

George St.,

Fort Drum NY 13602,

Landholding Agency: Army,

Property Number: 21201130024,

Status: Underutilized.

Reasons: Extensive deterioration.

Bldg. 01404,

West Point,

West Point NY 10996,

Landholding Agency: Army,

Property Number: 21201130034,

Status: Unutilized.

Reasons: Extensive deterioration.

Bldg. 00849,

849 Upton Rd,

West Point NY 10996,

Landholding Agency: Army,

Property Number: 21201130057,

Status: Underutilized.

Reasons: Secured Area.

North Carolina

4 Bldgs.,

Fort Bragg NC 28310,

Landholding Agency: Army,

Property Number: 21201130001,

Status: Unutilized.

Directions: A5586, A5587, A5783, A5787.

Reasons: Secured Area, Extensive deterioration.

10 Bldgs.,

Fort Bragg,

Fort Bragg NC 28310,

Landholding Agency: Army,

Property Number: 21201130002,

Status: Unutilized.

Directions: A5287, A5377, A5378, A5380, A5381, A5383, A5385, A5386, A5387, A5583.

Reasons: Secured Area, Extensive deterioration.

10 Bldgs.,

Fort Bragg,

Fort Bragg NC 28310,

Landholding Agency: Army,

Property Number: 21201130003,

Status: Unutilized.

Directions: A5078, A5080, A5083, A5084, A5085, A5087, A5277, A5280, A5283, A5284.

Reasons: Secured Area, Extensive deterioration.

Bldg. 31802,

Fort Bragg,

Fort Bragg NC 28310,

Landholding Agency: Army,

Property Number: 21201130004,

Status: Unutilized.

Reasons: Secured Area, Extensive deterioration.

Bldg. 1537,

Fort Bragg,

Fort Bragg NC 28310,

Landholding Agency: Army,

Property Number: 21201130005,

Status: Unutilized.

Reasons: Extensive deterioration.

12 Bldgs.,

Fort Bragg,

Fort Bragg NC 28310,

Landholding Agency: Army,

Property Number: 21201130007,

Status: Unutilized.

Directions: V3408, V3509, V3510, V3610, V3611, V3712, V3810, V3911, X6037, X6088, X6252, A5077.

Reasons: Extensive deterioration, Secured Area.

14 Bldgs.,

Pope Army Field,

Fort Bragg NC 28308,

Landholding Agency: Army,

Property Number: 21201130010,

Status: Unutilized.

Directions: 610, 614, 617, 618, 619, 623, 625, 15905, C7620, M6446, V3111, V3308, V3310, V3312.

Reasons: Extensive deterioration, Secured Area.

Oklahoma

14 Bldgs.,

Fort Sill,

Lawton OK 73501,

Landholding Agency: Army,

Property Number: 21201130056,

Status: Unutilized.

Directions: 00214, 00216, 01445, 01447, 01448, 01468, 02524, 02594, 02809, 6472, 6473, 6474, M1453, M4905.

Reasons: Contamination, Extensive deterioration.

Tennessee

Bldg. 00018,

2280 Hwy 104 W. Suite 2,

Milan TN 38358,

Landholding Agency: Army,

Property Number: 21201130022,

Status: Excess.

Reasons: Within 2000 ft. of flammable or explosive material.

19 Bldgs.,

Fort Campbell,

Fort Campbell TN 42223,

Landholding Agency: Army,

Property Number: 21201130051,

Status: Unutilized.

Directions: 843, 845, 867, 868, 885, 886, 888, 5115, 6615, 6804, 6808, 6809, 6811, 6812, 6843, 7240, 7574, 08062, E6621.

Comments: Reasons for unsuitability vary among properties.

Reasons: Extensive deterioration, Secured Area.

Texas

3 Bldgs.,

Fort Hood,

Fort Hood TX 76544,

Landholding Agency: Army,

Property Number: 21201130025,

Status: Excess.

Directions: 56415, 56608, 57013.

Reasons: Secured Are.a

12 Bldgs.,

Fort Hood,

Fort Hood TX 76544,

Landholding Agency: Army,

Property Number: 21201130026,

Status: Excess.

Directions: 42, 1674, 4166, 4258, 4259, 04263, 04264, 4266, 4267, 4268, 04443, 04465.

Reasons: Secured Area.

7 Bldgs,

Red River Army Depot,

Texarkana TX 75507,

Landholding Agency: Army,

Property Number: 21201130052,

Status: Excess.

Directions: 00122, 00450, 00457, 00458, 00475, 00502, 00545.

Reasons: Extensive deterioration, Secured Area.

Bldgs. 04282 & 04287,

Tank Destroyer Blvd. & 80th St.,

Fort Hood TX 76544,

Landholding Agency: Army,

Property Number: 21201130066

Status: Unutilized

Reasons: Secured Area.

Virginia

Bldg. 00222,

Rte. 114 P.O. Box 2,

Radford VA,

Landholding Agency: Army,

Property Number: 21201130008,

Status: Excess.

Reasons: Secured Area, Within 2000 ft. of flammable or explosive material.

Bldg. 00731,

Radford VA,

Landholding Agency: Army,

Property Number: 21201130009,

Status: Excess.

Reasons: Within 2000 ft. of flammable or explosive material, Secured Area, Extensive deterioration.

Bldg. 0731A,

Rte 114 P.O. Box 2,

Radford VA,

Landholding Agency: Army,

Property Number: 21201130011,

Status: Excess.

Reasons: Extensive deterioration, Secured Area, Within 2000 ft. of flammable or explosive material.

Bldg. 07352,

Radford VA 24143,

Landholding Agency: Army,

Property Number: 21201130012,

Status: Unutilized.

Reasons: Secured Area, Extensive deterioration, Within 2000 ft. of flammable or explosive material.

Bldgs. 00736 & 0736A,

Radford VA 24143,

Landholding Agency: Army,

Property Number: 21201130013,

Status: Excess.

Reasons: Within 2000 ft. of flammable or explosive material, Secured Area, Extensive deterioration.

Bldg. 47052,

Radford VA 24143,

Landholding Agency: Army,

Property Number: 21201130014,

Status: Underutilized.

Reasons: Secured Area, Within 2000 ft. of flammable or explosive material, Extensive deterioration.

4 Bldgs.,

8000 Jefferson Davis Hwy,

Richmond VA 23297,

Landholding Agency: Army,

Property Number: 21201130027,

Status: Underutilized.

Directions: 00031, 00032, 00033, 00035.

Reasons: Secured Area.

Bldgs. 2302 & 2303,

Fort Belvoir VA 22060,

Landholding Agency: Army,

Property Number: 21201130031,

Status: Excess.

Reasons: Secured Area.

5 Bldgs.,

Sandston Armory,

Sandston VA 23150,

Landholding Agency: Army,

Property Number: 21201130053,

Status: Unutilized.

Directions: T3700, T3702, T3704, T4500, T4504.

Reasons: Secured Area, Extensive deterioration.

Wisconsin

2 Bldgs,

4850 W. Silver Spring Drive,

Milwaukee WI 53218,

Landholding Agency: Army,

Property Number: 21201130021,

Status: Unutilized,

Directions: 302 & 303.

Reasons: Secured Area, Extensive deterioration.

25 Bldgs.,

Fort McCoy WI 54656,

Landholding Agency: Army,

Property Number: 21201130030,

Status: Unutilized.

Directions: 00547, 00550, 01669, 02101, 02102, 02103, 02105, 02151, 02179, 07061, 08214, MSH18, R018C, R18C1, R18C2, R018G, R018I, R018S, R101A, R101B, R101C, R101H, R101I, R101S, R101U.

Reasons: Secured Area, Extensive deterioration.

[FR Doc. 2011-23414 Filed 9-15-11; 8:45 am]

BILLING CODE 4210-67-P